NUCLEAR REGULATORY COMMISSION

National Materials Program Working Group

AGENCY: Nuclear Regulatory Commission.

ACTION: Notice of formation of working group and public meeting.

SUMMARY: The U.S. Nuclear Regulatory Commission (NRC) has formed a working group to provide the Commission with regulatory program options for a proposed National Materials Program. The working group is composed of the Organization of Agreement States (OAS), Conference of Radiation Control Program Directors, Inc., (CRCPD) and NRC representatives.

The working group held its first meeting in March 2000 and will produce a paper for the Commission that examines the impact of an increased number of Agreement States (AS) on the NRC's regulatory program and provides options for the Commission's consideration. The completion date for the working group's product is May 2001. To assure that the broadest possible alternatives are considered, the working group intends to hold a stakeholder's meeting to garner additional ideas for the working group's consideration as it finalizes the options it is considering.

DATES: The meeting will be held on February 21, 2001 from 8:30 am-5 pm; February 22, 2001 from 8:30 am-12 noon. Registration will begin at 8 am each day. To facilitate maximum participation and information sharing, the meeting will be open to the public.

ADDRESSES: The meeting will be held at the NRC's Region IV Office, 611 Ryan Plaza Drive, Suite 400, Arlington, Texas 76011-8064.

Members of the public who are unable to attend the meeting can send comments to the Office of the Secretary, U.S. Nuclear Regulatory Commission, Washington, DC 20555-0001, Attention: National Materials Program Working Group.

A notice about this meeting is also published at the NRC web site, News and Information, Public Meetings, Other Meetings (http://www.nrc.gov/NRC/PUBLIC/meet.html#OTHER).

FOR FURTHER INFORMATION CONTACT: James Myers, Project Manager, Office of State and Tribal Programs, U.S. Nuclear Regulatory Commission, Washington, DC 20555; Telephone: 301-415-2328; E-mail: jhm@nrc.gov

SUPPLEMENTARY INFORMATION: The 32 Agreement States (AS) regulate about 70 percent of the total number of radioactive materials licensees. NRC is forecasting three more AS by FY 2003. This will bring the percentage of licensees regulated by AS to more than 80 percent. With a declining number of licensees, NRC believes that its activities that support the national program infrastructure (rulemaking, guidance development, information technology systems, technical support, event follow up and the Integrated Materials Performance Evaluation Program) will have a significant impact on an increasingly smaller number of NRC licensees.

The NRC staff determined that the following issues were key to defining and implementing State and Federal roles under a national program: delineate the scope of activities to be covered by the program and need for statutory changes at the State and Federal levels; establish formal program coordination mechanisms; establish performance indicators, a program assessment process to measure performance and ensure program evolution; and provisioning and budgeting of both State and Federal resources for the program. Additionally, it was directed that the project be completed by May 1, 2001.

To assure adequate coordination and sharing of information with OAS, CRCPD and the public, it is the intention of the working group to place information at the Office of State and Tribal Programs web site http://www.hsrd.ornl.gov/nrc/home.html. Notices of future meetings will be posted at the NRC web site's Public Meeting Notice area: http://www.nrc.gov/NRC/PUBLIC/meet.html#OTHER. To facilitate maximum participation and information sharing, the working group's meetings will be open to the public. Future meeting notices will be published at the NRC web site, News and Information, Public Meetings, Other Meetings.

Dated at Rockville, Maryland this 8th day of February, 2001.
For the Nuclear Regulatory Commission.
Frederick C. Combs,
Deputy Director, Office of State and Tribal Programs.

[FR Doc. 01-3826 Filed 2-14-01; 8:45 am]

BILLING CODE 7590-01-P